DEFENSE BASE CLOSURE AND REALIGNMENT COMMISSION

Notice of the Defense Base Closure and Realignment Commission—Open Meeting

AGENCY: Defense Base Closure and Realignment Commission.

ACTION: Notice; Defense Base Closure and Realignment Commission—open meeting regarding the environmental stewardship of installations recommended for closure or realignment (Washington, DC).

SUMMARY: Notice is hereby given that a delegation of Commissioners of the Defense Base Closure and Realignment Commission will hold an open meeting on August 11, 2005 from 8:30 a.m. to 11:30 a.m. at Senate Hart Hearing Room 216, Constitution Avenue, Washington, DC 20510. The delay of this change notice resulted from the short time-frame established by statute for the operations of the Defense Base Closure and Realignment Commission and the necessity of coordinating this meeting with Federal, state and local government officials. The Commission requests that the public consult the 2005 Defense Base Closure and Realignment Commission Web site, http://www.brac.gov, for updates.

The Commission delegation will meet to receive testimony from Federal, state and local government officials, professional associations and the general public regarding the issues related to the appropriate environmental stewardship of installations recommended for closure and realignment. This meeting will be open to the public, subject to the availability of space. The delegation will not render decisions regarding the DoD recommendations at this meeting, but will gather information for later deliberations by the Commission as a whole.

DATES: August 11, 2005 from 8:30 a.m. to 11:30 a.m.

ADDRESSES: Senate Hart Hearing Room 216, Constitution Avenue, Washington, DC 20510.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street, Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Dated: July 27, 2005.
Jeannette Owings-Ballard,
Administrative Support Officer.

[FR Doc. 05-15198 Filed 8-1-05; 8:45 am]

BILLING CODE 5001-06-U